DEPARTMENT OF HOMELAND SECURITY

Coast Guard

[Docket No. USCG-2015-0559]

Merchant Marine Personnel Advisory Committee

AGENCY: Coast Guard, DHS.

ACTION: Notice of Federal Advisory Committee Working Group Meeting.

SUMMARY: A working group of the Merchant Marine Personnel Advisory Committee will meet to work on and review Task Statement 89, concerning review and update of the International Maritime Organization Maritime Safety Committee's Circular MSC/Circ.1014—Guidelines on fatigue mitigation and management. This meeting will be open to the public.

DATES: The Merchant Marine Personnel Advisory Committee working group will meet on July 14 and 15, 2015, from 8 a.m. until 5:30 p.m. Please note that these meetings may adjourn early if all business is finished. Written comments for distribution to working group members and inclusion on the Merchant Marine Personnel Advisory Committee's Web site must be submitted by July 6, 2015.

ADDRESSES: The working group will meet at the United States Coast Guard's Personnel Support Center at 4200 Wilson Blvd., Arlington, VA 20598. For further information on the location of the United States Coast Guard's Personnel Support Center or services for individuals with disabilities or to request special assistance, please contact YNC Michael King at (703) 872-6417 or by email at Micheal.T.King@uscg.mil.

To facilitate public participation, we are inviting public comment on the issues to be considered by the working group, as listed in the “Agenda” section below. Written comments must be identified by Docket No. USCG-2015-0559, and submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number for the Docket Management Facility is 202-366-9329.

Instructions: All written comments received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, enter the docket number in the “Search” field and follow instructions on the Web site.

A public oral comment period will be held each day during the working group meeting and speakers are requested to limit their comments to 3 minutes. Please note that the public oral comment periods may end before the prescribed ending times following the last call for comments. Contact Mr. Ram Nagendran as indicated below no later than July 6, 2015 to register as a speaker.

This notice may be viewed in our online docket, USCG-2015-0559, at http://www.regulations.gov.

FOR FURTHER INFORMATION CONTACT: Mr. Ram Nagendran, Alternate Designated Federal Officer of the Merchant Marine Personnel Advisory Committee, telephone 202-372-1492 or at ram.nagendran@uscg.mil. If you have any questions on viewing or submitting material to the docket, call Cheryl Collins, Program Manager, Docket Operations, telephone 202-366-9826 or 1-800-647-5527.

SUPPLEMENTARY INFORMATION: Notice of this meeting is given under the Federal Advisory Committee Act, Title 5 United States Code Appendix.

The Merchant Marine Personnel Advisory Committee was established under authority of section 310 of the Howard Coble Coast Guard and Maritime Transportation Act of 2014, Title 46, United States Code, section 8108, and chartered under the provisions of the Federal Advisory Committee Act. The Committee acts solely in an advisory capacity to the Secretary of the Department of Homeland Security through the Commandant of the Coast Guard on matters relating to personnel in the U.S. merchant marine, including training, qualifications, certification, documentation, and fitness standards and other matters as assigned by the Commandant; shall review and comment on proposed Coast Guard regulations and policies relating to personnel in the United States merchant marine, including training, qualifications, certification, documentation, and fitness standards; may be given special assignments by the Secretary and may conduct studies, inquiries, workshops, and fact finding in consultation with individuals and groups in the private sector and with State or local governments; shall advise, consult with, and make recommendations reflecting its independent judgment to the Secretary.

A copy of all meeting documentation, including the Task Statement, is available at https://homeport.uscg.mil/by using these key strokes: Missions; Port and Waterways; Safety Advisory Committees; MERPAC; and then use the announcements key. Alternatively, you may contact Mr. Nagendran as noted in the FOR FURTHER INFORMATION CONTACT section above.

Agenda

The agenda for the July 14, 2015, working group meeting is as follows:

(1) Comment period for all attendees to discuss information that might assist the working group and the Merchant Marine Personnel Advisory Committee in meeting its objectives for Task Statement 89, concerning review and update of the International Maritime Organization Maritime Safety Committee's Circular MSC/Circ.1014—Guidelines on fatigue mitigation and management;

(2) The working group will review and develop proposed recommendations for Task Statement 89; and

(3) Adjournment of meeting.

The agenda for the July 15, 2015, working group meeting is as follows:

(1) The working group will review and develop proposed recommendations concerning review and update of the International Maritime Organization Maritime Safety Committee's Circular MSC/Circ.1014—Guidelines on fatigue mitigation and management;

(2) Public comment period;

(3) The working group will discuss and finalize proposed recommendations for the full committee to consider with regards to Task Statement 89, concerning review and update of the International Maritime Organization Maritime Safety Committee's Circular MSC/Circ.1014—Guidelines on fatigue mitigation and management; and

(4) Adjournment of meeting.

Dated: June 16, 2015.
J.G. Lantz,
Director of Commercial Regulations and Standards.

[FR Doc. 2015-15216 Filed 6-19-15; 8:45 am]

BILLING CODE 9110-04-P